DEPARTMENT OF DEFENSE

Department of the Army, Corps of Engineers

33 CFR Part 334

Naval Restricted Area, Naval Air Station Whidbey Island, Washington

AGENCY: U.S. Army Corps of Engineers, DoD.

ACTION: Notice of proposed rulemaking and request for written comments.

SUMMARY: The Corps of Engineers is proposing to establish a new restricted area in the waters of Crescent Harbor, Saratoga Passage, adjacent to Naval Air Station Whidbey Island near Oak Harbor, Washington. Under this proposal, there would be no permanent, around-the-clock restrictions on use of the area. Restrictions would be intermittent and temporary, and only apply when naval training exercises are signaled as in progress. Prior to the commencement of an exercise, the Navy would conduct an air or surface reconnaissance of the area to ensure the area is clear. Vessels underway and laying a course through the area would not be interfered with, but such vessels would not be allowed to delay their progress. Vessels anchored in, or nearing the restricted area during the conduct of an exercise, would be contacted by a Navy patrol boat and advised to depart or steer clear. Exercises would only occur when all vessels and persons were clear of the area. The purpose of this proposal is to ensure public safety and the Navy's ability to conduct training exercises without interference.

DATES: Comments must be submitted on or before September 12, 2001.

ADDRESSES: U.S. Army Corps of Engineers, ATTN: CECW-OR, 20 Massachusetts Avenue, NW., Washington DC 20314-1000.

FOR FURTHER INFORMATION CONTACT: Mr. Frank Torbett, Headquarters Regulatory Branch at (202) 761-4618 or Mr. Jack Kennedy, Corps Seattle District, at (206) 764-6907.

SUPPLEMENTARY INFORMATION: Pursuant to its authorities in Section 7 of the Rivers and Harbors Act of 1917 (40 Stat. 266; 33 U.S.C. 1) and Chapter XIX of the Army Appropriation Act of 1919 (40 Stat. 892; 33 U.S.C. 3) the Corps proposes to amend the regulations in 33 CFR part 334 by adding a new Section 334.1218 which would establish a new naval restricted area in the waters of Crescent Harbor, Saratoga Passage, adjacent to Naval Air Station Whidbey Island, near Oak Harbor, Island County, Washington.

The restrictions proposed in this request would be intermittent, infrequent, and of short duration. According to the Navy, a review of their operations and restricted areas indicated the need for an additional restricted area in Crescent Harbor, a waterbody used by Explosive Ordinance Disposal Units for training exercises for many years without incident or complaint. The restricted area is required for safety purposes. The exercises in question take place about once a month and require only a very temporary closure of the waterway. A typical training cycle takes approximately one hour. Besides Explosive Ordinance Disposal exercises, the Navy envisions invoking the restrictions during naval training exercises involving activities like aerial minesweeping, underwater object locating, and air-sea rescue.

Procedural Requirements

a. Review Under Executive Order 12866

This proposed rule is issued with respect to a military function of the Defense Department and the provisions of Executive Order 12866 do not apply.

b. Review Under the Regulatory Flexibility Act

This proposed rule has been reviewed under the Regulatory Flexibility Act (Public Law 96-354), which requires the preparation of a regulatory flexibility analysis for any regulation that will have a significant economic impact on a substantial number of small entities (i.e., small businesses and small governments). The Corps expects that the economic impact of the establishment of this restricted area would have no impact on the public, no anticipated navigational hazard or interference with existing waterway traffic, and accordingly, certifies that this proposal, if adopted, will have no significant economic impact on small entities.

c. Review Under the National Environmental Policy Act

The Seattle District has prepared a preliminary Environmental Assessment (EA) for this action. The preliminary EA concluded that this action will not have a significant impact on the human environment. After receipt and analysis of comments from this Federal Register posting and the Seattle District's concurrent Public Notice, the Corps will prepare a final environmental document detailing the scale of impacts this action will have upon the human environment. The environmental assessment may be reviewed at the District Office listed at the end of FOR FURTHER INFORMATION CONTACT, above.

d. Unfunded Mandates Act

This proposed rule does not impose an enforceable duty among the private sector and, therefore, is not a Federal private sector mandate and is not subject to the requirements of Section 202 or 205 of the Unfunded Mandates Act. We have also found under Section 203 of the Act that small governments will not be significantly and uniquely affected by this rulemaking.

List of Subjects in 33 CFR Part 334

Danger Zones, Marine Safety, Restricted Areas, Waterways.

For the reasons set out in the preamble, we propose to amend 33 CFR Part 334 to read as follows:

PART 334—DANGER ZONE AND RESTRICTED AREA REGULATIONS

1. The authority citation for Part 334 continues to read as follows:

Authority: 40 Stat. 266 (33 U.S.C. 1) and 40 Stat. 892 (33 U.S.C. 3).

2. Add new section 334.1218 to read as follows:

§ 334.1218 Crescent Harbor, Naval Air Station Whidbey Island, Oak Harbor, WA; Naval Restricted Area.

(a) The area. The area is drawn from the Polnell Point Light (48°16′22″ N, 122°33′32″ W) west-southwest to a point in central Crescent Harbor (48°16′00″ N, 122°36′00″ W) and then due north to a point along Crescent Harbor's northern shoreline on Whidbey Island (48°17′55″ N, 122°36′00″ W).

(b) The regulations. (1) Restrictions would be intermittent, and only apply when naval training exercises are in progress.

(2) Prior to the commencement of an exercise, the Navy would conduct an air or surface reconnaissance of the area to ensure the area is clear. Vessels underway and laying a course through the area would not be interfered with, but such vessels would not be allowed to delay their progress. Vessels anchored in, or nearing the restricted area during the conduct of an exercise, will be contacted by a Navy patrol boat and advised to depart or steer clear.

(3) Exercises would only occur when all vessels and persons are clear of the area. When exercises are in progress, use of the area will be indicated by the presence of a red “Bravo” flag flying from the patrol boat and/or a buoy to be placed at the Southwest corner of the restricted area (latitude 48°16′00″ N, longitude 122°36′00″W).

(4) During training exercises while the red “Bravo” flag is flying from a patrol boat and/or the marker buoy, no vessel, watercraft, or person shall enter or remain within the designated restricted area. Upon completion of an exercise, the red “Bravo” flag will be struck and restrictions will cease to apply.

(c) Enforcement. The regulations in this section shall be enforced by the Commander, Navy Region Northwest, and such agencies and persons as he/she shall designate.

Dated: July 30, 2001.
Charles M. Hess,
Chief, Operations Division, Directorate of Civil Works.

[FR Doc. 01-20230 Filed 8-10-01; 8:45 am]

BILLING CODE 3710-GB-P